DEPARTMENT OF AGRICULTURE

Food Safety and Inspection Service

[Docket No. FSIS-2011-0005]

Codex Alimentarius Commission: Meeting of the Codex Committee on Food Labeling

AGENCY: Office of the Under Secretary for Food Safety, USDA.

ACTION: Notice of public meeting and request for comments.

SUMMARY: The Office of the Under Secretary for Food Safety, U.S. Department of Agriculture (USDA), and the Food and Drug Administration (FDA), are sponsoring a public meeting on April 25, 2011. The objective of the public meeting is to provide information and receive public comments on agenda items and draft United States (U.S.) positions that will be discussed at the 39th Session of the Codex Committee on Food Labeling (CCFL) of the Codex Alimentarius Commission (Codex), which will be held in Québec City, Canada May 9-13, 2011. The Under Secretary for Food Safety and FDA recognize the importance of providing interested parties the opportunity to obtain background information on the 39th session of the CCFL and to address items on the agenda.

DATES: The public meeting is scheduled for April 25, 2011, from 2 p.m. to 5 p.m.

ADDRESSES: The public meeting will be held at USDA, Jamie L. Whitten Building, 1400 Independence Ave SW., Room 107-A, Washington, DC 20250. Documents related to the 39th Session of the CCFL will be accessible via the World Wide Web at the following address: http://www.codexalimentarius.net/current.asp.

Barbara Schneeman, U.S. Delegate to the 39th Session of the CCFL and FDA, invites interested U.S. parties to submit their comments electronically to the following e-mail address: Barbara.Schneeman@fda.hhs.gov.

Call-In Number: If you wish to participate in the public meeting for the 39th session of the CCFL by conference call, please use the following call-in number and participant code listed below:

Call-in Number: 1-866-692-3158

Participant Code: 5986642

For Further Information About the 39th Session of the CCFL Contact: Barbara Schneeman, Ph.D., Director, Office of Nutritional Products, Labeling and Dietary Supplements, Center for Food Safety and Applied Nutrition, FDA, (HFS-800), 5100 Paint Branch Parkway, College Park, MD 20740, telephone: (301) 436-2373, fax: (301) 436-2636, e-mail: Barbara.Schneeman@fda.hhs.gov.

For Further Information About the Public Meeting Contact: Doreen Chen-Moulec, U.S. Codex Office, 1400 Independence Avenue SW., Washington, DC 20250, telephone: (202) 205-7760, fax: (202) 720-3157, e-mail: Doreen.chen-moulec@fsis.usda.gov.

SUPPLEMENTARY INFORMATION:

Background

Codex was established in 1963 by two United Nations organizations, the Food and Agriculture Organization and the World Health Organization (WHO). Through adoption of food standards, codes of practice, and other guidelines developed by its committees, and by promoting their adoption and implementation by governments, Codex seeks to protect the health of consumers and ensure that fair practices are used in trade.

The CCFL Committee on Food Labeling is responsible for drafting provisions on labeling applicable to all foods; considering amending, if necessary, and endorsing draft specific provisions on labeling prepared by the Codex Committees drafting standards, codes of practice and guidelines; studying specific labeling problems assigned to it by Codex; studying problems associated with the advertisement of food with particular reference to claims and misleading descriptions.

The Committee is hosted by Canada.

Issues To Be Discussed at the Public Meeting

The following items on the agenda for the 39th Session of the CCFL will be discussed during the public meeting:

• Matters referred to the CCFL.

• Consideration of labeling provisions in draft codex standards.

• Implementation of the WHO Global Strategy on Diet, Physical Activity and Health.

(a) Draft Revision of the Guidelines on Nutrition Labeling concerning the list of nutrients that are always declared on a voluntary or mandatory basis (at Step 7).

Recommendations on the declaration of sodium (salt).

(b) Discussion paper on additional conditions for nutrient content claims and comparative claims in the Guidelines for Use of Nutrition and Health Claims.

(c) Consideration of the use of standardized symbols to represent the ingredients identified in the WHO Global Strategy.

(d) Mandatory nutrition labeling.

• Guidelines for the production, processing, labeling and marketing of organically produced foods.

(a) Annex 1: Inclusion of ethylene for other products at Step 7.

Use of ethylene for the ripening of fruit.

Justification against the criteria in section 5.1 regarding the use of ethylene for de-greening of citrus fruit, induction of flowering in pineapples and sprout inhibition in potatoes and onions.

(b) Annex II: Inclusion of new substances.

(c) Organic aquaculture.

• Labeling of foods and food ingredients obtained through certain techniques of Genetic Modification/Genetic Engineering.

(a) Draft Amendment to the General Standard for the Labeling of Prepacked Foods: Definitions (at Step 7).

(b) Proposed Draft Recommendations for the Labeling of Foods and Food Ingredients through Certain Techniques of Genetic Modification/Genetic Engineering (at Step 4).

• Proposed Draft Definition of Nutrient Reference Values Proposal and replies to Circulating Letter (CL) 2010/21-FL.

• Discussion paper on the need to amend the General Standard for the Labeling of Prepackaged Foods (Codex Stan 1-1985) in line with the International Organization of Legal Metrology (OIML) Recommendations regarding the declaration of the quantity of the product in prepackages.

• Modified Standardized Common Names.

• Discussion paper on exchange of information between competent authorities when suspecting fraud concerning organic products including replies to CL 2010/20-FL.

Each issue listed will be fully described in documents distributed, or to be distributed, by the Secretariat prior to the meeting. Members of the public may access these documents (see ADDRESSES).

Public Meeting

At the April 25, 2011, public meeting, draft U.S. positions on the agenda items will be described and discussed, and attendees will have the opportunity to pose questions and offer comments. Written comments may be offered at the meeting or sent to the U.S. Delegate for the 39th Session of the CCFL, Barbara Schneeman (see ADDRESSES). Written comments should state that they relate to activities of the 39th Session of the CCFL.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/. Options range from recalls, export information, regulations, directives, and notices. Customers can add or delete subscriptions themselves, and have the option to password protect their accounts.

Done at Washington, DC on: March 25, 2011.
Karen Stuck,
U.S. Manager for Codex Alimentarius.

[FR Doc. 2011-7645 Filed 3-31-11; 8:45 am]

BILLING CODE 3410-DM-P